DEPARTMENT OF TRANSPORTATION

Federal Highway Administration

Buy America Waiver Notification

AGENCY: Federal Highway Administration (FHWA), DOT.

ACTION: Notice.

SUMMARY: This notice provides information regarding the FHWA's finding that a Buy America waiver is appropriate for stainless steel clad reinforcing bars used in certain Federal-aid construction projects in Virginia.

DATES: The effective date of the waiver is August 26, 2008.

FOR FURTHER INFORMATION CONTACT: For questions about this notice, please contact Gerald Yakowenko, FHWA Office of Program Administration, (202) 366-1562, gerald.yakowenko@dot.gov. For legal questions, please contact Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register 's home page at: http://www.archives.gov and the Government Printing Office's database at: http://www.access.gpo.gov/nara..

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate for stainless steel clad reinforcing bars used for certain Federal-aid projects administered by the Virginia Department of Transportation.

In accordance with the Division K, section 130 of the “Consolidated Appropriations Act, 2008” (Pub. L. 110-161), the FHWA published a notice of intent to issue a waiver on its Web site for stainless steel clad reinforcing bars for selected Federal-aid projects in Virginia (http://www.fhwa.dot.gov/construction/contracts/waivers.cfm?id=13) on June 22, 2008. The FHWA evaluated several comments that were received in response to the notice. Several commenters suggested that solid stainless rebar should be used and that stainless clad rebar may be more expensive than solid stainless rebar. Other commenters disagreed with this position. The Virginia Department of Transportation's waiver request is to evaluate the stainless clad reinforcing bars along with two other types of corrosion resistant reinforcing steels (ASTM1035 and solid stainless) under an experimental project. The FHWA agrees with the Virginia Department of Transportation that it is in the public interest to waive the Buy America requirements for this experimental project; therefore, the FHWA concludes that a Buy America waiver is appropriate as provided by 23 CFR 635.410(c)(1).

In accordance with the provisions of section 117 of the “SAFETEA—LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link to the Virginia waiver page noted above.

(Authority: 23 U.S.C. 313; Pub. L. 110-161, 23 CFR 635.410)

Issued on: August 14, 2008.
James D. Ray,
Acting Federal Highway Administrator.

[FR Doc. E8-19638 Filed 8-22-08; 8:45 am]

BILLING CODE 4910-22-P